DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce

ACTION: Notice of Public Comment Period for the Revised Management Plan for the Great Bay (New Hampshire) National Estuarine Research Reserve.

SUMMARY: Notice is hereby given that the Estuarine Reserves Division, Office of Ocean and Coastal Resource Management, National Ocean Service, National Oceanic and Atmospheric Administration (NOAA), U.S. Department of Commerce is announcing a thirty day public comment period on the revised Great Bay National Estuarine Research Reserve Management Plan which will begin on the day this announcement is published. Comments should be sent within the comment period in hard copy or e-mail to Doris Grimm at Doris.Grimm@noaa.gov or NOAA's Estuarine Reserves Division, 1305 East-West Highway, N/ORM5, 10th Floor, Silver Spring, MD 20910.

The Great Bay National Estuarine Research Reserve was designated in October 1989 pursuant to Section 315 of the Coastal Zone Management Act of 1972, as amended, 16 U.S.C. 1461. Pursuant to 15 CFR 921.33(c), a state must revise its management plan every five years. The reserve has been operating under a management plan approved in 1989. The submission of this plan fulfills this requirement and sets a course for successful implementation of the goals and objectives of the reserve.

Since the last management plan, the Great Bay Reserve has constructed needed facilities, increased its staff, changed its boundary, implemented several system-wide programs, and acquired key parcels of land. The original boundary included 4,471 acres of open water and salt marsh in Great Bay proper and 1,882 acres of upland. The boundary expansion includes 2,830 acres of additional open and salt marsh in Little Bay and several tidal rivers as well as 1,052 acres of upland. This expansion also includes all of the Federal lands under the Great Bay National Wildlife refuge that was established in 1992.

The expanded boundary is a more comprehensive representation of the natural communities within the Southern Gulf of Maine province of the Acadian bio-geographic region of the United States. Great Bay serves as a natural field laboratory for researchers and the boundary expansion will increase and diversify the areas capable of supporting NERRS long-term research and monitoring, including opportunities for extensive upland research. The boundary expansion also increases the Reserve's opportunities for educating the public about the estuarine system.

This new management plan serves as the primary guidance document for the operation of the Great Bay Reserve's core and system-wide programs in research and monitoring, education and coastal training, and resource management and stewardship. The plan provides guidance on the acquisition of land to be added to the Reserve and on the construction and renovation of buildings and exhibits that support NERR programs. It also guides the Reserve in important related programs, such as volunteerism and outreach to communities to encourage stewardship of coastal resources in the Great Bay area.

The Great Bay Reserve is administered through the New Hampshire Fish and Game Department. The Reserve is a part of the Marine Fisheries Division, which is based in Durham, New Hampshire. The Reserve also works closely with the New Hampshire Coastal Program and the New Hampshire Estuaries Project, as well as many other partners, such as the University of New Hampshire and the New Hampshire Department of Environmental Services, to meet its goals and objectives.

FOR FURTHER INFORMATION CONTACT: Doris Grimm at (301) 563-7107 or Laurie McGilvray at (301) 563-1158 of NOAA's National Ocean Service, Estuarine Reserves Division, 1305 East-West Highway, N/ORM5, 10th Floor, Silver Spring, MD 20910. For copies of the Wells Management Plan revision, visit http://www.reserve.org.

Dated: August 2, 2007.
David M. Kennedy,
Director, Office of Ocean and Coastal Resource Management, National Oceanic and Atmospheric Administration.

[FR Doc. E7-15483 Filed 8-7-07; 8:45 am]

BILLING CODE 3510-08-P